DEPARTMENT OF THE INTERIOR

Bureau of Land Management

[LLNVB00000.LF3100000.DD0000.LFHFJF500000; 13-08807; MO# 4500079713]

Notice of Availability of the Final Environmental Impact Statement for the 3 Bars Ecosystem and Landscape Restoration Project in Eureka County, NV

AGENCY: Bureau of Land Management, Interior.

ACTION: Notice.

SUMMARY: In accordance with the National Environmental Policy Act of 1969, as amended, the Bureau of Land Management (BLM) has prepared a Final Environmental Impact Statement (EIS) for the 3 Bars Ecosystem and Landscape Restoration Project (3 Bars Project) and by this notice is announcing its availability.

DATES: The BLM will not issue a final decision on the proposal for a minimum of 30 days from the date that the Environmental Protection Agency publishes its Notice of Availability in the Federal Register.

ADDRESSES: Copies of the 3 Bars Project Final EIS are available for public inspection at the Bureau of Land Management, Mount Lewis Field Office, 50 Bastian Road, Battle Mountain, Nevada, during regular business hours of 7:30 a.m. to 4:30 p.m., Monday through Friday, except holidays. Interested persons may also view the Final EIS at: http://on.doi.gov/1NlY62v.

FOR FURTHER INFORMATION CONTACT: Todd Erdody, Fire Ecologist 775-635-4109, Bureau of Land Management, Mount Lewis Field Office, 50 Bastian Road, Battle Mountain, NV 89820; or email: 3Bars_Project@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 3 Bars Project area in central Eureka County, Nevada, spans approximately 749,810 acres and includes all or portions of three major mountain ranges (Roberts Mountain, Simpson Park Range, and Sulphur Spring Range). Monitoring has indicated that resource conditions within the project area have deteriorated due to past land use activities, causing the BLM to target this area for restoration.

The BLM is proposing a comprehensive treatment program for improving the health of the ecosystem in the 3 Bars Project area. The proposed project focuses on restoration at the landscape level. The proposed treatments range from several acres to several thousand acres, depending on specific treatment and management goals and desired objectives for each resource. Possible treatment methods include manual, mechanical, and biological control treatments, prescribed fire, or wildland fire for resource benefit, and other management actions. The surface landownership consists of about 97 percent public lands administered by the BLM and three percent privately owned lands.

The BLM initiated the scoping period for the Project by publication of a Notice of Intent (75 FR 3916-3917) to prepare an Environmental Impact Statement (EIS) on January 25, 2010. The scoping period ended on March 10, 2010. Public scoping meetings were held in Battle Mountain, Nevada, on February 22, 2010, and in Eureka, Nevada, on February 23, 2010. The BLM received 24 scoping comment letters on the proposed 3 Bars Project. During the scoping period, 637 catalogued individual comments were recorded for the 3 Bars Project EIS. All comments that were received have been incorporated in a Scoping Summary Report and were considered in the subsequent preparation of the Draft EIS.

Based on the public comments received during the scoping period for the 3 Bars Project, the BLM developed and analyzed four alternatives in the Draft EIS; specifically, the All Treatment Method Alternative; No Fire Use Alternative; Minimal Land Disturbance Alternative; and No Action Alternative.

The BLM has identified site-specific treatment projects that it proposes to implement to restore and manage the 3 Bars Project area. Treatment projects were identified through an iterative process involving the BLM and other Federal, state and local agencies. Treatments would focus on four priority vegetation management concerns:

• Riparian—Treatments in riparian habitats would focus on restoring riparian functionality in areas where structural integrity (incised channel, headcuts, knickpoints, developments, and diversions) and/or appropriate species composition are compromised.

• Aspen—Treatments in quaking aspen habitats would focus on improving the health of aspen stands by stimulating aspen regeneration.

• Pinyon-juniper—Treatments in singleleaf pinyon pine and Utah juniper habitats would focus on thinning pinyon-juniper communities to promote woodland health and removing pinyon-juniper where it encroaches into riparian areas and upland habitats, including sagebrush habitat.

• Sagebrush—Treatments in sagebrush habitats would focus on restoring the sagebrush community by removing encroaching pinyon-juniper, promoting the reestablishment of native forbs and grasses in sagebrush communities, and promoting the development of sagebrush in areas where it occurred historically.

In addition to the All Available Methods Alternative, three other alternatives are analyzed in the Final EIS. The No Fire Use Alternative would target the same treatment areas, but the methods of treatment would not include prescribed fire or wildland fire for resource benefit. The Minimal Land Disturbance Alternative targets the same areas for treatment, but further limits the methods of treatment to exclude fire use, mechanical treatments, and non-classical biological controls. A No Action Alternative has also been included to provide a baseline against which all other alternatives can be measured. Three additional alternatives were considered, but eliminated from detailed analysis.

The BLM has prepared the Final EIS in coordination with its three Cooperating Agencies: the Nevada Department of Wildlife, Eureka County Board of Commissioners, and the National Park Service—National Trails Intermountain Region.

On September 27, 2013, a Notice of Availability of the Draft EIS was published in the Federal Register (78 FR 59712), providing a 45-day public comment period. One public comment meeting was held on November 7, 2013, in Eureka, Nevada. A second Notice was published in the Federal Register (78 FR 67392) entitled “New Dates for Close of Public Comment and Protest Periods Due to Federal Government Shutdown extending the comment period to November 29, 2013.” No preferred alternative for this Project was chosen in the Draft EIS.

More than 6,800 comments were received, of which 6,530 were form letters containing identical or similar comments. The BLM identified 23 substantive issues as a result of the review process. Comments primarily pertained to potential impacts to wild horses, preservation of old growth woodlands, and protection of habitat for wildlife and special status species, including Greater Sage-Grouse. Substantive comments were considered by the BLM and changes to the Final EIS made accordingly.

The Final EIS has identified the All Available Methods Alternative as the preferred alternative, with treatments and treatment objectives that meet previously identified resource management goals. These goals are consistent with the 1986 Shoshone-Eureka Resource Management Plan, as amended by the BLM Nevada and Northeastern California Greater Sage-Grouse Approved Resource Management Plan Amendment and Record of Decision, which currently guides land management activities within the 3 Bars Project area. These goals focus primarily on wildlife and habitat enhancement, fire and fuels management, woodland and rangeland values, wetland and riparian restoration, wild horse management, and protection of traditional edible and medicinal plants and cultural resources.

The 3 Bars ecosystem provides habitat for Greater Sage-Grouse, a BLM special status species. The proposed 3 Bars Project is fully in conformance with the September 2015 BLM Nevada and Northeastern California Greater Sage-Grouse Approved Resource Management Plan Amendment and Record of Decision (ARMPA).

To ensure that treatments benefit Greater Sage-Grouse, sagebrush restoration treatments would adhere to ARMPA Required Design Features (RDFs). These include avoiding treatments near Greater Sage-Grouse leks and avoiding treatments in breeding, brood-rearing, and wintering habitats during those times of the year when Greater Sage-Grouse are using these habitats. The BLM will ensure proper livestock management is in place prior to treatments when necessary in order to meet project goals and objectives, which would benefit Greater Sage-Grouse habitat.

Authority: 40 CFR 1506.6, 40 CFR 1506.10

Jon D. Sherve,
Field Manager, Mount Lewis Field Office.

[FR Doc. 2016-25978 Filed 10-27-16; 8:45 am]

BILLING CODE 4310-HC-P